DEPARTMENT OF THE INTERIOR

Bureau of Land Management

Stewardship End Result Contracting

AGENCY: Bureau of Land Management, DOI.

ACTION: Notice of Guidance Issuance.

SUMMARY: The Bureau of Land Management (BLM) is issuing guidance to its field offices on stewardship end result contracting (commonly referred to as “stewardship contracting”) projects. This guidance provides internal administrative direction to guide BLM employees in collaborative planning, implementing, and monitoring of stewardship contracting projects.

EFFECTIVE DATE: This guidance is effective on January 28, 2004.

ADDRESSES: This guidance is available electronically at http://www.blm.gov/nhp/spotlight/forest_initiative/stewardship_contracting/.

FOR FURTHER INFORMATION CONTACT: Laura Ceperley, Renewable Resources and Planning, Bureau of Land Management at (202) 452-5029; or Scott Lieurance, Renewable Resources and Planning, Bureau of Land Management at (202) 452-0316. Individuals who use telecommunication devices for the deaf (TDD) may call the Federal Information Relay Service (FIRS) at 1-800-877-8339 24 hours a day, 7 days a week.

SUPPLEMENTARY INFORMATION: On June 27, 2003, the BLM and the Forest Service adopted jointly developed interim guidelines for implementation of the stewardship contracting provisions as authorized by section 323 of Public Law 108-7, the Consolidated Appropriations Resolution, 2003 (16 U.S.C. 2104 note). The Forest Service and BLM published a joint Federal Register notice with request for comment on the interim guidelines on June 27, 2003 (68 FR 38285). The agencies received sixty-two (62) responses in the form of letters, faxes, and e-mail messages regarding the Federal Register notice of the interim guidelines on stewardship contracting. The comments came from private citizens, elected officials, and groups and individuals representing businesses, private organizations, and Federal agencies. Comments ranged from full support of the interim guidelines to the recommendation that the BLM should not use much of the authority set out in 16 U.S.C. 2104 note. The Bureau considered all comments in drafting the BLM guidance for stewardship contracting, and made changes in response to the comments. The BLM is issuing the guidance in Instruction Memorandum 2004-081. This represents the culmination of the BLM's internal and public reviews of stewardship contracting policy.

Dated: January 16, 2004.
James M. Hughes,
Deputy Director for Policy.

[FR Doc. 04-1799 Filed 1-27-04; 8:45 am]

BILLING CODE 3410-11-P